DEPARTMENT OF VETERANS AFFAIRS

VA Fleet Alternative Fuel Vehicle (AFV) Program Report

AGENCY: Department of Veterans Affairs.

ACTION: Notice.

SUMMARY: In accordance with the Energy Policy Act of 1992 (EPAct) (42 U.S.C. 13211-13219) as amended by the Energy Conservation Reauthorization Act of 1998 (Pub. L. 105-388), the Department of Veterans Affairs' annual alternative fuel reports are available on the following Department of Veterans Affairs Web site: http://www.va.gov/afv.

FOR FURTHER INFORMATION CONTACT: Elaine Jackson, (202) 273-5859.

Approved: July 13, 2005.
Gordon H. Mansfield,
Deputy Secretary of Veterans Affairs.

[FR Doc. 05-14540 Filed 7-21-05; 8:45 am]

BILLING CODE 8320-01-P